DEPARTMENT OF EDUCATION

34 CFR Chapter VI

[Docket ID ED-2025-OPE-0016]

Negotiated Rulemaking Committee; Negotiator Nominations and Schedule of Committee Meetings

AGENCY: Office of Postsecondary Education, Department of Education.

ACTION: Intent to establish rulemaking committee.

SUMMARY: We announce our intention to establish a negotiated rulemaking committee to prepare proposed regulations for the Federal Student Aid programs authorized under title IV of the Higher Education Act of 1965, as amended (HEA). The committee will include representatives of organizations or groups with interests that are significantly affected by the subject matter of the proposed regulations. We request nominations for individual negotiators who represent key stakeholder constituencies for the issues to be negotiated to serve on the committee.

DATES: We must receive your nominations for negotiators to serve on the committee on or before June 2, 2025. The dates and times of the committee meetings are set out in the Schedule for Negotiations in the SUPPLEMENTARY INFORMATION section.

ADDRESSES: Please email your nominations for negotiators to negregnominations@ed.gov. If you are unable to email your nomination, please contact Vanessa Gomez, U.S. Department of Education, Office of Postsecondary Education, 400 Maryland Avenue SW, 5th Floor, Washington, DC 20202. Telephone: (202) 987-0378. Email: NegRegnominations@ed.gov.

FOR FURTHER INFORMATION CONTACT: For information about negotiated rulemaking, see “The Negotiated Rulemaking Process for Title IV Regulations—Frequently Asked Questions” at https://www.ed.gov/laws-and-policy/higher-education-laws-and-policy/higher-education-policy/frequently-asked-questions-negotiated-rulemaking-process-title-iv-regulations. For information about the content of this document, including additional information about the negotiated rulemaking process, please contact Tamy Abernathy, U.S. Department of Education (Department), Office of Postsecondary Education, 400 Maryland Avenue SW, 5th Floor, Washington, DC 20202. Telephone: (202) 245-4595. Email: NegRegNPRMHelp@ed.gov.

If you are deaf, hard of hearing, or have a speech disability and wish to access telecommunications relay services, please dial 7-1-1.

SUPPLEMENTARY INFORMATION:

Background

On April 4, 2025, we published in the Federal Register 90 FR 14741 an announcement of our intent to establish a negotiated rulemaking committee addressing topics which may include Public Service Loan Forgiveness (PSLF), Pay As You Earn (PAYE), Income-Contingent Repayment (ICR), or other topics that would streamline and improve federal student financial assistance programs and related regulations. We also announced public hearings at which interested parties could comment on the topics for negotiation suggested by the Department and suggest additional topics for consideration for action by one or more negotiated rulemaking committees. Those hearings were held on April 29 and May 1, 2025.

You may view written comments submitted in response to the aforementioned Federal Register document through the Federal eRulemaking Portal at www.regulations.gov. The Department is still receiving comments through May 8, 2025, and will consider suggested additional topics for future negotiations. Instructions for finding comments are available on the site under “FAQ.” Enter Docket ID ED-2025-OPE-0016 in the search box to locate the appropriate docket.

Committee Topics

After considering the information received at the public hearing and the written comments, we have decided to establish the Student Loans and Affordability Committee (Committee) to address the following topics:

1. Refining definitions of a qualifying employer for the purposes of determining eligibility for the Public Service Loan Forgiveness program.

2. Revisiting family size, restructuring repayment plan provisions, including the alternative repayment plan, and certain other provisions of the July 10, 2023 rule.

We intend to select negotiators for the Committee who represent the interests of those significantly affected by the topics proposed for negotiation. In so doing, we will comply with the requirement in section 492(b)(1) of the HEA (20 U.S.C. 1098a) that the individuals selected must have demonstrated expertise or experience in the relevant topics proposed for negotiations. Our goal is to establish a committee that will allow significantly affected parties to be represented while keeping the size manageable.

We generally select a primary and alternate negotiator for each constituency represented on a committee. The primary negotiator participates for the purpose of determining consensus. The alternate participates for the purpose of determining consensus in the absence of the primary negotiator. The Department will provide more detailed information to both primary and alternate negotiators selected to participate on the Committee about the logistics and protocols of the meetings.

Constituencies for Negotiator Nominations

We have identified the following constituencies as having interests that are significantly affected by the topics proposed for negotiation. We plan to include negotiators who represent these constituencies. Nominations should include evidence of the nominee's specific knowledge of the issues listed under the Committee Topics heading earlier in this document. The Department strongly encourages nominees to list all constituencies under which they would like to be considered. The Department reserves the discretion to place a nominee in a constituency based upon their background and experience even if the individual was not nominated for that specific category.

Constituencies for the Committee are:

• Civil rights organizations, consumer advocates, and legal assistance organizations that represent students and/or borrowers.

• State officials, including State higher education executive officers, State authorizing agencies and State attorneys general. Student loan borrowers in repayment.

• U.S. military service members, veterans, or groups representing them.

• Public institutions of higher education, including Historically Black Colleges and Universities, Tribal Colleges and Universities, and Minority-serving institutions (institutions of higher education eligible to receive Federal assistance under title III, parts A and F, and title V of the HEA).

• Private nonprofit institutions of higher education including Historically Black Colleges and Universities, Tribal Colleges and Universities, and Minority-serving institutions (institutions of higher education eligible to receive Federal assistance under title III, parts A and F, and title V of the HEA).

• Proprietary institutions of higher education.

• Financial aid administrators at postsecondary institutions.

• Organizations representing taxpayers and the public interest.

• Federal Family Education Loan Lenders and/or Guaranty Agencies.

Advisor

The Department also invites nominations for an advisor. The advisor will not be a member of the committee and will not impact the consensus vote; however, we will consult with the advisor, who will serve as a resource to the committee for the purposes of expanding the definition of qualifying employment under the Public Service Loan Forgiveness program. We seek an advisor who has the knowledge of Federal immigration laws and laws that prohibit illegal discrimination and curtail domestic support of terrorism. We also seek assistance in defining terms such as, illegal immigration, human smuggling, child trafficking, and other terms mentioned in the March 7, 2025, Presidential Executive Order directing the Secretary to revise 34 CFR 685.219, specifically activities that would exclude an agency from being a qualifying employer. The advisor will be expected to be available throughout the duration of the Student Loans and Affordability Committee meetings, specifically when the committee is discussing issues related to Public Service Loan Forgiveness. The Department will work with the committee and the advisor to determine additional dates and times that the advisor must be present before, in-between, and after committee meetings. The advisor may also offer recommendations to the committee on regulatory language.

The goal of the committee is to develop proposed regulations that reflect a final consensus of the committee. Consensus means that there is no dissent by any member of a negotiating committee, including the committee member representing the Department.

A negotiator is expected to represent the interests of their constituency and to participate in the negotiations in a manner consistent with the goal of developing proposed regulations on which the committee will reach consensus.

Nominations

We request that nominations include the information described in this section.

(1) The name of the nominee;

(2) The name of the constituency (or constituencies) for which the nominee is being nominated (see Constituencies for Negotiator Nominations);

(3) The nominee's place of employment or institution at which they are or were enrolled and, if different, the organization the nominee represents;

(4) A resume or evidence of the nominee's expertise and experience in the topics proposed for negotiations; and

(5) The nominee's contact information, including email address, telephone number, and mailing address.

Please see the ADDRESSES section for submission information. We will confirm receipt of nominations to the submitter. The Department will provide additional information to those we select to serve as negotiators. Once complete, a list of negotiators will be posted here: https://www.ed.gov/laws-and-policy/higher-education-laws-and-policy/higher-education-policy/negotiated-rulemaking-for-higher-education-2025-2026. The Department will also provide information about how any committee vacancies can be filled at the beginning of the first committee meeting.

Schedule for Negotiations

The Committee will meet in-person at the Department in Washington, DC for one session on the following dates:

Session 1: June 30-July 2, 2025

Session times will be from 9:00 a.m. to 12:00 p.m. and 1:00 p.m. to 4:00 p.m., with a public comment period from approximately 3:30 p.m. to 4:00 p.m., Eastern time.

The session will be conducted in person and is available for the public to view via livestream. The Department is willing to add another session if needed. Registration is requested to observe the in-person or livestream. Space may be limited. We will post a registration link on our website at https://www.ed.gov/laws-and-policy/higher-education-laws-and-policy/higher-education-policy/negotiated-rulemaking-for-higher-education-2025-2026 closer to the start of negotiations. Please note any in-person visitors to the Department must present a Driver's License (DL) or Identification (ID) that is compliant with the REAL ID Act; a current military ID; or a valid passport. Those persons not in possession of a DL/ID that is REAL ID compliant, a current military ID or a valid passport, will not be allowed to gain entrance into the Department. The Department will also post recordings and transcripts of the meetings on the site listed above

At the end of each day (except for the final day of the final session), the Department will reserve 30 minutes for in-person public comment at the Department in Washington, DC. We will attempt to accommodate each speaker's preference, but, if we are unable to do so, we will select speakers on a first-come, first-served basis, based on the date and time we received the message. We will limit each participant to three minutes. We will provide information on how to request time to speak on our website at https://www.ed.gov/laws-and-policy/higher-education-laws-and-policy/higher-education-policy/negotiated-rulemaking-for-higher-education-2025-2026. For those who need a reasonable modification in order to provide a live comment during the negotiations, please see the “Reasonable Modifications” section below for information about how to make such a request.

Individuals who would like to present comments must register by sending an email message to negreghearing@ed.gov no later than noon, Eastern time, on the business day prior to the committee hearing in which they would like to speak. The message should include the name of the presenter and one or more dates and times during which the individual would be available to speak. The Department will notify registrants of the date and time slot reserved for them to speak. An individual may make only one presentation at the committee meetings. If we receive more registrations than we are able to accommodate, the Department reserves the right to reject the registration of an entity or individual that is affiliated with an entity or individual that is already scheduled to present comments, and to select among registrants to ensure that a broad range of entities and individuals is allowed to present. We will accept registrations for any remaining time slots on a first-come, first-served basis, beginning at 8 a.m., at the Department's on-site registration table.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format. American Sign Language translation will be provided to all who attend the negotiations and closed captioning will be provided for the negotiations.

Reasonable Modifications: The hearings will be accessible to individuals with disabilities. Information for contacting the Department to request auxiliary aids or services to provide a live comment will be included in the registration process for providing a live comment at the hearing. If you will need an auxiliary aid or service to provide your comment, please notify the person listed under FOR FURTHER INFORMATION CONTACT in this document at least two weeks before the scheduled meeting date.

Electronic Access to this Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site. You may also access the documents of the Department published in the Federal Register by using the article search feature at www.federalregister.gov. Specifically, through the advanced search feature at this site, you can limit your search to documents published by the Department.

Program Authority: 20 U.S.C. 1098a.

James P. Bergeron,
Acting Under Secretary.

[FR Doc. 2025-08157 Filed 5-9-25; 8:45 am]

BILLING CODE 4000-01-P